DEPARTMENT OF THE INTERIOR

Fish and Wildlife Service

[FWS-R7-R-2012-N206; FXRS12650700000-134-FF07R06000]

Final Environmental Impact Statement; Izembek National Wildlife Refuge Proposed Land Exchange/Road Corridor, Cold Bay, AK

AGENCY: Fish and Wildlife Service, Interior.

ACTION: Notice of availability.

SUMMARY: We, the U.S. Fish and Wildlife Service (Service), announce the availability of a final environmental impact statement (EIS) for a proposed land exchange/road corridor on the Izembek National Wildlife Refuge (Refuge), Alaska. We prepared this final EIS pursuant to the National Environmental Policy Act of 1969 (NEPA) and its implementing regulations. The Service is furnishing this notice to advise the public and other agencies of availability of the final EIS.

DATES: The review period will end March 8, 2013. We are not soliciting comments on the final EIS during this review period.

ADDRESSES: You may submit questions or requests for more information by any one of the following methods:

Email: izembek_eis@fws.gov; include “Izembek National Wildlife Refuge final EIS” in the subject line of the message.

Fax: Attn: Stephanie Brady, Project Team Leader, (907) 786-3965.

U.S. Mail: Stephanie Brady, Project Team Leader, U.S. Fish and Wildlife Service, 1011 East Tudor Rd., MS-231, Anchorage, AK 99503.

In-Person Pickup or Drop-off: You may pick up a copy of the EIS or drop off questions during regular business hours at the address listed above.

You will find the final EIS, as well as information about the process and a summary of the final EIS, on the Izembek refuge web site: http://izembek.fws.gov/eis.htm.

FOR FURTHER INFORMATION CONTACT: Stephanie Brady, (907) 306-7448, or at the addresses above.

SUPPLEMENTARY INFORMATION:

Introduction

In 2009 the Omnibus Public Land Management Act of 2009 (Act), Public Law 111-11; 123 Stat. 991, was enacted. Subject to complying with the requirements of the Act, it authorized the Secretary of the Interior to enter into a land exchange between the Service and State of Alaska and between the Service and the King Cove Corporation for the purpose of constructing a single-lane gravel road between the communities of King Cove and Cold Bay, Alaska, through Izembek National Wildlife Refuge. The land exchange would involve the removal of approximately 200 acres within the Izembek National Wildlife Refuge, including lands within the Izembek Wilderness, for the road corridor, and approximately 1,600 acres of Federal land within the Alaska Maritime National Wildlife Refuge on Sitkinak Island. In exchange, the Service would receive approximately 43,093 acres of land owned by the State of Alaska and approximately 13,300 acres of land owned by the King Cove Corporation. The lands from the State of Alaska would be designated wilderness, as would the approximately 2,565 acres of lands from the King Cove Corporation. These lands are located around Cold Bay and adjacent to the North Creek Unit of Alaska Peninsula National Wildlife Refuge.

With this notice, we continue the EIS process for the Izembek National Wildlife Refuge land exchange/road corridor proposal. We started this process with notices of intent in the Federal Register (74 FR 39336; August 6, 2009; 75 FR 8396; February 24, 2010), indicating the beginning of the scoping period and publishing the dates and locations of the scoping meetings. We also published a notice of availability, announcing the release of the Draft EIS and the opening of the public comment period (77 FR 16059; March 19, 2012)

The Izembek National Wildlife Refuge (417,533 acres) and the North Creek (8,452 acres) and Pavlof (1,447,264 acres) units of the Alaska Peninsula National Wildlife Refuge are located at the westernmost tip of the Alaska Peninsula. To the north of the Izembek Refuge is the Bering Sea; to the south is the Pacific Ocean. The Alaska Peninsula is dominated by the rugged Aleutian Range, part of the Aleutian arc chain of volcanoes. Landforms include mountains, active volcanoes, U-shaped valleys, glacial moraines, low tundra wetlands, lakes, sand dunes, and lagoons. Elevations range from sea level to the 9,372-foot Shishaldin Volcano. Shishaldin Volcano is a designated National Natural Landmark. Alaska Maritime National Wildlife Refuge stretches from the Arctic Ocean to the southeast panhandle of Alaska and protects breeding habitat for seabirds, marine mammals, and other wildlife on more than 2,500 islands, spires, rocks, and coastal headlands.

Background

On December 6, 1960, Public Land Order 2216 established the 498,000-acre Izembek National Wildlife Range, which included Izembek Lagoon and its entire watershed near the tip of the Alaska Peninsula, as “a refuge, breeding ground and management area for all forms of wildlife.” Eighty-four thousand, two hundred acres of this national wildlife range, including Izembek Lagoon, are State lands under the Submerged Lands Act, 43 U.S.C. 1312. The State of Alaska established the Izembek State Game Refuge to continue protecting the rare resources of Izembek Lagoon in 1972. In December 1980, the Alaska National Interest Lands Conservation Act (ANILCA; Pub. L. 96-487) was enacted. Section 303(3) redesignated the existing Izembek National Wildlife Range, containing the 417,533-acre watershed surrounding Izembek Lagoon, as the Izembek National Wildlife Refuge.

As described in ANILCA, Izembek Refuge purposes include the following:

(i) To conserve fish and wildlife populations and habitats in their natural diversity;

(ii) To fulfill the international treaty obligations of the United States with respect to fish and wildlife and their habitats;

(iii) To provide, in a manner consistent with the purposes set forth in subparagraphs (i) and (ii), the opportunity for continued subsistence uses by local residents; and

(iv) To ensure, to the maximum extent practicable and in a manner consistent with the purposes set forth in paragraph (i), water quality and necessary water quantity within the refuge.

Section 702(6) of ANILCA also designated 300,000 acres (72 percent) of the Izembek Refuge as a wilderness area under the Wilderness Act. The Wilderness Act creates additional purposes for designated wilderness areas within refuge boundaries. Specifically, these areas are to be managed “for the use and enjoyment of the American people in such manner as will leave them unimpaired for future use and enjoyment as wilderness, and so as to provide for the protection of these areas, the preservation of their wilderness character, and for the gathering and dissemination of information regarding their use and enjoyment as wilderness.” The Wilderness Act prohibits the construction of permanent roads through a wilderness area designated under the Act.

The Izembek Refuge is inhabited by a diverse and abundant community of fish and wildlife. Izembek Lagoon and adjacent coastal waters and wetlands form one of the most important migratory bird staging habitats in the world. In recognition of this, and for its importance to internationally migrating birds, it was designated as a Globally Important Bird Area by the American Bird Conservancy in 2001. Hundreds of thousands of geese, ducks, and shorebirds use the Izembek Refuge's wetlands and the adjacent lagoons to rest and feed during their long migrations between arctic breeding areas and their diverse wintering areas, some as far away as South America and New Zealand. Each spring and fall, Izembek Lagoon provides staging habitat for more than 90 percent of the world's population of Pacific brant and many sea ducks and other waterbirds winter at the Izembek Refuge and adjacent marine waters.

Together, the Izembek Refuge and Izembek State Game Refuge, which encompasses the tidelands of Izembek Lagoon, were recognized for the area's extraordinary ecological values when they became one of the first sites in North America to be designated a Wetland of International Importance under the Ramsar convention, one of only 19 such sites within the United States. Izembek Lagoon supports some of the most extensive remaining eelgrass meadows in the world, providing a rich environment for waterbirds and other wildlife. Izembek Lagoon and adjacent habitats qualify as a site of Regional Importance (hosts at least 20,000 birds annually) and likely International Importance (hosts at least 100,000 birds annually) in the Western Hemispheric Shorebird Reserve Network. The lagoon's barrier islands protect the eelgrass habitat and wildlife species from the dramatic storms of the Bering Sea.

The Izembek Refuge also supports species of concern such as the threatened Steller's eider, threatened sea otter, threatened Steller sea lion, tundra swan, black brant, gray-bellied brant, and emperor goose. Wildlife habitat throughout the Izembek Wilderness currently maintains a high level of connectivity providing undisturbed habitat for brown bear, caribou, moose, salmon and countless migratory birds. Additionally, caribou use Izembek Refuge as wintering grounds and brown bear use the area around the isthmus for denning. Red fox, wolves and wolverines are found on the refuge and harbor seals can be seen along the coastline and in the lagoons. Coho, chum, sockeye, and pink salmon return in great numbers to the many streams of Izembek Refuge to spawn each year.

The refuge also has a rich human history, from ancient settlements of Alaska Natives, through the 18th and 19th century Russian fur traders, to a World War II outpost. The Izembek Wilderness covers most of the refuge and includes pristine streams, extensive wetlands, steep mountains, tundra, and sand dunes, and provides high scenic, wildlife, and scientific values, as well as outstanding opportunities for solitude and primitive and unconfined recreation. Currently, the narrow isthmus separating the Bering Sea from the North Pacific is not fragmented by road construction and provides connectivity of habitat for many species inhabiting the southern Alaska Peninsula region. In addition to lands within Izembek Refuge, the land exchange involves parcels on Sitkinak Island within Alaska Maritime National Wildlife Refuge and parcels owned by the King Cove Corporation and the State of Alaska located on the Alaska Peninsula. Sitkinak Island is primarily owned by the State of Alaska, with two parcels owned by the Service.

The King Cove Corporation is an Alaska Native Village Corporation established under the Alaska Native Claims Settlement Act of 1971 (43 U.S.C. 1601 et seq.) (ANCSA). Under the authority of ANCSA, Congress granted King Cove Corporation land entitlements within and adjacent to Izembek Refuge. The State of Alaska also owns lands, submerged lands, shorelands, and tidelands within and adjacent to Izembek and Alaska Peninsula Refuges, including the Izembek State Game Refuge.

Prior legislation and an EIS also focused on providing access between the communities of King Cove and Cold Bay. The King Cove Health and Safety Act (Section 353) of the Omnibus Consolidated and Emergency Supplemental Appropriations Act of 1999 (Pub. L. 105-227) provided appropriations of $37.5 million for the Aleutians East Borough to construct a marine-road link between the communities of King Cove and Cold Bay ($20 million). This law also provided an appropriation for improvements to the King Cove Airport ($15 million) and King Cove Clinic ($2.5 million). The conference committee report on this law stated the committees agreed to these funds as an alternative to an easement for a road through the Izembek National Wildlife Refuge wilderness area to address critical health and safety needs.

The U.S. Army Corps of Engineers, Alaska District, completed the King Cove Access Project EIS and issued a Record of Decision addressing the marine-road link in 2003. The road was constructed to Lenard Harbor, where hovercraft support facilities were installed. A hovercraft was purchased and began operating in 2007. Hovercraft transit service was provided by the Aleutians East Borough until November 2010. Throughout this time, King Cove residents continued to advocate for a road as the safest and most reliable transportation system.

The extraordinary wildlife and wilderness resources of Izembek National Wildlife Refuge have been recognized for their national and international significance. Congress designated the wilderness area for its outstanding opportunities for solitude and primitive and unconfined type of recreation. It contains outstanding ecological, geological, or other features of scientific, educational, scenic, and historical value. It has retained its primeval character and influence, without permanent improvements or human habitation, and is currently managed to protect and preserve its natural conditions. Section 6402(b) of the Act, requires the Service to prepare an environmental impact statement (EIS) under the National Environmental Policy Act of 1969, as amended (42 U.S.C. 4321 et seq.), and its implementing regulations (40 CFR parts 1500-1508). The Act directs that the EIS analyze the proposed land exchange and the potential construction and operation of a road between the communities of King Cove and Cold Bay, Alaska. The Act requires that the Service identify a specific road corridor through the refuge for consideration in consultation with the State, the City of King Cove, and the Agdaagux Tribe of King Cove. Following completion of the EIS and Record of Decision, if a land exchange alternative is selected, section 6402(d) of the Act requires the Secretary to determine whether the land exchange (including the construction of a road between the City of King Cove, Alaska, and the Cold Bay Airport) is in the public interest.

EIS Alternatives We Considered

Subject to complying with the requirements of the Act, the Secretary of the Interior is authorized to consider a land exchange between the Service and State of Alaska and between the Service and the King Cove Corporation for the purpose of constructing a single-lane gravel road between the communities of King Cove and Cold Bay, Alaska. The Act also required that we prepare this final EIS. The Agdaagux Tribe of King Cove, Aleutians East Borough, City of King Cove, Federal Highway Administration/Western Federal Lands, King Cove Corporation, Native Village of Belkofski, State of Alaska, and U.S. Army Corps of Engineers, Alaska District, are formal cooperators in the preparation of this final EIS. The Service is the lead agency.

The final EIS includes evaluation of two specific potential road corridors through the Izembek Refuge and Wilderness that were identified in consultation with the State of Alaska, the City of King Cove, and the Agdaagux Tribe of King Cove. We developed and evaluated the following alternatives, summarized in the table and described briefly below. A full description of each alternative is in the final EIS.

Alternative 1—no action | Alternative 2 | Alternative 3 | Alternative 4 | Alternative 5
No land exchange. Continue current modes of transportation, including air and marine | Land exchange and southern road alignment through Izembek Refuge and Wilderness | Land exchange and northern alignment through Izembek Refuge and Wilderness | Hovercraft operation 6 days per week from Northeast Hovercraft Terminal to Cross Wind Cove | Lenard Harbor ferry with Cold Bay dock improvements

Alternative 1—No Action

Under Alternative 1, the Service would not enter into a land exchange with King Cove Corporation and the State of Alaska for the purpose of constructing a road between King Cove and Cold Bay, Alaska. Current modes of transportation between the cities of King Cove and Cold Bay would continue to operate, including air, personal marine vessels, and a ferry service approximately twice per month in the summer season. The Aleutians East Borough has indicated they have considered an aluminum landing craft/passenger ferry to provide a marine-road link between the Northeast Hovercraft Terminal and the Cross Wind Cove if there is no land exchange.

According to the Borough, the vessel contemplated would accommodate approximately 30 passengers, occasional wheeled vehicles/ambulances and limited cargo. The vessel would operate between the Northeast Hovercraft Terminal and Cross Wind Cove, the same route analyzed in the 2003 EIS for the hovercraft.

Alternative 2—Land Exchange and Southern Road Alignment

Alternative 2 proposes a land exchange between the Federal government, State of Alaska, and King Cove Corporation as described in the Proposed Action. The estimated amount of Federal land exchanged in this alternative for the road corridor would be 201 acres, including 131 acres in Izembek Wilderness, assuming a 100-foot corridor width.

Alternative 3—Land Exchange and Central Road Alignment

Alternative 3 proposes a land exchange between the Federal government, State of Alaska, and King Cove Corporation, as described in the Proposed Action. The estimated amount of Federal land exchanged in this alternative for the road corridor would be 227 acres, including 152 acres in Izembek Wilderness, assuming a 100-foot corridor width.

Alternative 4—Hovercraft Operations from the Northeast Hovercraft Terminal to Cross Wind Cove (6 days per week)

Alternative 4 is the Proposed Action in the 2003 EIS for the King Cove Access Project completed by the U.S. Army Corps of Engineers, Alaska District. The alternative considered in this EIS would not require further construction activities; the alternative will consider operations of the hovercraft, as described in the 2003 EIS, for service six days per week between the Northeast Hovercraft Terminal and the Cross Wind Cove. As the draft EIS was approaching completion, the Aleutians East Borough sent the Service a letter stating they will not resume hovercraft service in the foreseeable future.

Alternative 5—Lenard Harbor Ferry with Cold Bay Dock Improvements

Alternative 5 would use a ferry to travel 14 miles between a terminal in Lenard Harbor and a substantially modified Cold Bay dock. This alternative is similar to an alternative that was analyzed in the 2003 EIS, with the exception of project elements that have been permitted or constructed to date, including the access road to the site, a terminal building with associated utility infrastructure, and a parking area. However, the Lenard Harbor terminal structure has been damaged by a storm, and would have to be replaced. Upgrades to the parking area and security fencing would also be necessary. Ferry service would be provided six days per week.

Preferred Alternative

Council on Environmental Quality Regulations (40 CFR 1502.14) require agencies to identify the agency's preferred alternative in a final EIS. Consistent with this requirement, the Service's preferred alternative is Alternative 1, the no action alternative. This alternative was so identified because it is believed to best meet refuge purposes and the Service mission. While the proposed land exchange would provide many more acres of land as part of the Refuge System; the habitat values of these lands do not compare with the habitat values of the areas within the proposed road corridors and do not compensate for the effects that locating a road within the Izembek Wilderness would have on wildlife, habitat, and wilderness values of the refuge.

During preparation of the draft EIS, the cooperators met over 100 times. Most of the cooperators have met repeatedly with senior Service and Department of the Interior officials to express their recommendations for a preferred alternative. The identification of Alternative 1 as the preferred alternative in the EIS was made by the U. S. Fish and Wildlife Service as lead agency and is not preferred by all the cooperators on the project.

The Izembek Refuge and Alaska Peninsula Refuge would receive over 55,000 acres offered by the State and King Cove Corporation in exchange for de-designating approximately 200 acres of Izembek Refuge Wilderness and transferring it to the State of Alaska for road construction. While the over 55,000 acres offered contain important wildlife habitat, they do not provide the wildlife diversity of the internationally recognized wetland habitat of the Izembek isthmus. Simply exchanging lands will not compensate for myriad ripple effects on habitat and wildlife due to uses on and beyond the road, nor would new lands provide habitat for all the same species. State lands and private lands adjacent to the refuge to be traded to the Service are under no foreseeable threat. While adding them to the National Wildlife Refuge System should insure long-term protection; this would not compensate for the adverse effects of removing a corridor of land and constructing a road within the narrow Izembek isthmus.

The road is proposed to connect the communities of King Cove and Cold Bay to provide King Cove residents access to emergency medical and other services via the all-weather airport at Cold Bay. To address this concern, the 1997 King Cove Health and Safety Act authorized funding for a marine link between the communities and improvements to King Cove's air strip and medical clinic. Congress recognized that these funds were to provide emergency health and safety needs in the community as an alternative to a road through the Izembek Refuge and Wilderness. In 1998 Congress appropriated $37.5 million for these improvements to: (1) Upgrade the medical clinic, (2) improve the King Cove airstrip, and (3) create a transportation link between King Cove and Cold Bay via a single lane, unpaved road from King Cove to a $10 million hovercraft and terminal. Facilities were constructed and a hovercraft operated between the communities from 2006 to 2010. During that time, the hovercraft successfully completed every medical evacuation required during the periods each year it was operating.

Hovercraft service provided by the Aleutians East Borough was suspended in November 2010. In November 2011 the Aleutians East Borough announced that hovercraft service would not resume. Since operations began in 2007, the Aleutians East Borough stated that there were issues with operability and reliable service from Lenard Harbor. Revenue generated by operations did not meet initial projections. The Aleutian East Borough reports the hovercraft lost $1 million annually when operating three days a week and that they do not plan to operate it again. The Aleutians East Borough determined that it could not sustain these costs. With no further hovercraft service planned for the community of King Cove, the hovercraft was modified and transferred to Akutan in the Aleutian Islands in 2012 where it is supposed to provide a transportation link between the City of Akutan and the Akutan Airport on Akun Island.

In a February 24, 2012 letter to the U.S. Army Corps of Engineers, the Aleutians East Borough stated it is exploring an aluminum landing craft/passenger ferry to provide a marine-road link between the communities of King Cove and Cold Bay if a land exchange and road corridor is not approved. This letter states that “It is the fervent hope” of the Aleutians East Borough, the City of King Cove, the King Cove Corporation and the Agdaagux and Belkofski Tribes that the Secretary of the Interior will approve the land exchange. If the Secretary does not approve the land exchange, the Aleutians East Borough “will develop an alternative transportation link between King Cove and Cold Bay. Any alternative we develop will include the utilization of the road to Northeast Corner and associated facilities, now being constructed under the King Cove Health and Safety Act . . .. A transportation link the Borough is exploring (and we believe holds promise) is an aluminum landing craft/passenger ferry.” The Borough hopes that this type of a transportation link could be more technically and financially viable than a hovercraft.

Thus a landing craft or other ferry or the hovercraft is a potential means of providing emergency access; the economic choices relative to use of these vessels for providing access are the purview of the Aleutians East Borough.

Public Involvement

We are releasing the final EIS for a 30-day public review period. We are not soliciting public comments at this time. The Service has afforded government agencies, tribes, and the public extensive opportunity to participate in the preparation of this EIS.

We started the EIS for the Izembek Refuge land exchange/road corridor in August 2009. At that time and throughout the planning process, we requested public comments and considered and incorporated them in numerous ways.

To gather additional input from the public, we held seven public open house meetings—five in communities adjacent to or within the boundaries of the Izembek Refuge; one in Washington, DC; and one in Anchorage, Alaska.

We considered and evaluated these issues and public concerns, and used them to develop various aspects of the draft EIS. We published the draft EIS on March 19, 2012, for public review. The comment period closed on May 18, 2012. During that time, we held four face-to-face public meetings in Anchorage, Sand Point, Cold Bay, and King Cove, Alaska and via a conference call with the communities of False Pass and Nelson Lagoon, Alaska. All meetings were recorded and transcripts are available on the Izembek Web site and in the final EIS.

Individuals and organizations provided a total of 71,960 comments during the public comment period. The responses came in the form of emails, faxes, letters, and public hearing transcripts. Approximately 76 people spoke at the six public meetings. The comments were reviewed, coded, analyzed, and developed into statements of concern. Comments were sorted into broad issue groups, including:

1. Regulatory compliance;

2. Purpose and need;

3. Proposed action, alternatives, and mitigation measures;

4. Affected environment and environmental consequences; and

5. General.

We considered and evaluated these issues and public concerns, and used them to develop various aspects of the final EIS.

Changes to the Final EIS

We made the following changes in the final EIS from the draft EIS:

No action: As indicated in the draft EIS, we have revised the no action alternative in the final EIS. The Aleutians East Borough ceased to operate the hovercraft and has indicated that if the Secretary does not approve the proposed road, they will pursue a landing craft as a marine link between the Northeast corner to Cold Bay. Therefore, we updated the no action to reflect the latest information provided by the Aleutians East Borough.

Impact summaries: Some impacts were re-classified and are reflected in the final EIS.

Socioeconomic data: The final EIS reflects the re-analysis of the socioeconomic data with the 2010 census data. However, this re-analysis did not yield any changes in the impact analysis.

Comments

We are not soliciting comments at this time. This release is intended to allow the public a period of review. Appendix C of the final EIS includes a summary report of public comments received during the scoping period. Appendix G of the final EIS contains a summary of public comments received on the draft EIS and the Service's responses to substantive comments, and includes samples of public comments received on the draft EIS.

Next Steps

Following conclusion of the 30-day public review period, a Record of Decision (ROD) will be signed, in which we disclose the Service's final decision and any conditions of approval. Availability of the ROD will be announced through the Federal Register, a press release, the refuge's web site, and communications with those on the EIS mailing list.

Dated: January 25, 2013.
Geoffrey L. Haskett,
Regional Director, U.S. Fish and Wildlife Service, Anchorage, Alaska.

[FR Doc. 2013-02618 Filed 2-5-13; 8:45 am]

BILLING CODE P